NEIGHBORHOOD REINVESTMENT CORPORATION

Audit Committee Meeting; Sunshine Act

TIME AND DATE: 2:00 p.m., Tuesday, May 19, 2015.

PLACE: NeighborWorks America—Gramlich Boardroom 999 North Capitol Street NE., Washington, DC 20002.

STATUS: Open (with the exception of Executive Sessions).

CONTACT PERSON: Jeffrey Bryson, General Counsel/Secretary (202) 760-4101; jbryson@nw.org.

AGENDA:

I. CALL TO ORDER

II. Executive Session with the Chief Audit Executive

III. Executive Session: Pending Litigation

IV. Executive Session: OHTS Watch List Review

V. FY 2016 Risk Assessment & Draft Internal Audit Plan

VI. Internal Audit Reports with Management's Response

VII. Internal Audit Status Reports

VIII. Compliance Update

IX. Other External Audit Reports

X. Adjournment

Jeffrey T. Bryson,
EVP & General Counsel/Corporate Secretary.

[FR Doc. 2015-11426 Filed 5-7-15; 4:15 pm]

BILLING CODE 7570-02-P